INTERNATIONAL DEVELOPMENT FINANCE CORPORATION

[DFC-016]

Submission for OMB Review

AGENCY: U.S. International Development Finance Corporation (DFC).

ACTION: Notice of Information Collection; Emergency Clearance.

SUMMARY: The U.S. International Development Finance Corporation (DFC) is submitting a request to the Office of Management and Budget (OMB) for emergency review and clearance of a new information collection request under the Paperwork Reduction Act of 1995.

DATES: DFC intends to begin use of this collection immediately.

ADDRESSES: Requests for copies of the subject information collection may be sent by any of the following methods:

• Mail: Joanna Reynolds, Agency Submitting Officer, U.S. International Development Finance Corporation, 1100 New York Avenue NW, Washington, DC 20527.

• Email: fedreg@opic.gov

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds, (202) 357-3979.

SUPPLEMENTARY INFORMATION: In accordance with the Paperwork Reduction Act (PRA), the U.S. International Development Finance Corporation (DFC) is seeking emergency clearance from OMB on a new information collection titled DFC-016, DFC-Serbia—Kosovo Screening Tool.

Summary Form Under Review

Title of Collection: DFC-Serbia—Kosovo Screening Tool

Type of Review: New information collection.

Agency Form Number: DFC-016.

OMB Form Number: Not assigned, new information collection.

Frequency: Once per user per project.

Affected Public: Business or other for-profit; not-for-profit institutions; individuals.

Total Estimated Number of Annual Number of Respondents: 100.

Estimated Time Per Respondent: 1.5 hours.

Total Estimated Number of Annual Burden Hours: 150 hours.

Abstract: The DFC Serbia-Kosovo Investment Portal will be the principal document used by DFC to screen the viability of potential of projects for DFC financing as part of the implementation of the Serbia-Kosovo Economic Normalization Agreement.

Nichole Skoyles,
Administrative Counsel, Office of the General Counsel.

[FR Doc. 2020-21157 Filed 9-24-20; 8:45 am]

BILLING CODE 3210-02-P